DEPARTMENT OF ENERGY

Federal Energy Regulatory Commission

[Docket No. RP03-474-000]

Clear Creek Storage Company, L.L.C.; Notice of Tariff Filing

May 13, 2003.

Take notice that on May 8, 2003, Clear Creek Storage Company, L.L.C. (Clear Creek) tendered for filing, as part of its FERC Gas Tariff, Original Volume No. 1, the following tariff sheets, with an effective date of July 1, 2003:

Original Sheet Nos. 44B and 44C

First Revised Sheet Nos. 39, 44A, 45

Second Revised Sheet Nos. 40A and 77A

Third Revised Sheet No. 38A

Fourth Revised Sheet Nos. 40 and 77

Clear Creek states that the filing is in compliance with the Commission's Order No. 587-R in Docket No. RM96-1-024.

Clear Creek explains that Order No. 587-R amended, 18 CFR 284.12, standards for interstate pipeline business operations and communications, to adopt (1) Version 1.6 of the consensus industry standards promulgated by the Wholesale Gas Quadrant (WGQ) of the North American Energy Standards Board (NAESB) and (2) WGQ standards governing partial day recalls. Clear Creek states that through this filing it will revise its tariff to reflect the changed standards so as to be consistent with Order No. 587-R.

Clear Creek states further that a copy of this filing has been served upon its customers and the Public Service Commission of Wyoming.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 20, 2003.

Magalie R. Salas,
Secretary.

[FR Doc. 03-12444 Filed 5-16-03; 8:45 am]

BILLING CODE 6717-01-P